NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 31, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the government and of private persons directly affected by the government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Bureau of the Census (N1-29-03-1, 5 items, 5 temporary items). Records of the Manufacturing and Construction Division consisting of economic survey questionnaires used to collect data on the production and shipment of selected products. Digital images of records are included. This schedule clarifies and revises disposition instructions for the paper records, which were previously approved for disposal.

2. Department of Defense, Office of the Inspector General (N1-509-03-2, 13 items, 13 temporary items). Files documenting requests for subpoenas from Defense Department criminal investigative organizations. Included are program and policy files and case files, along with a database used to track subpoena requests. Also included are electronic copies of documents created using electronic mail and word processing.

3. Department of the Treasury, Financial Management Service (N1-425-03-1, 45 items, 45 temporary items). Records relating to debt collection activities. Included are such records as case files relating to wage garnishment, compliance reviews, and debtor disputes as well as financial information and reports, administrative resolutions, system development project files, conference files, and creditor agency payment information. Also included are electronic copies of documents created using electronic mail and word processing.

4. Administrative Office of the U.S. Courts, Office of Internal Services (N1-116-03-1, 4 items, 3 temporary items). Architectural and engineering plans for courthouses and other Federal judicial facilities. Also included are electronic copies of documents created using electronic mail and word processing. Plans for the Thurgood Marshall Federal Judiciary Building are proposed for permanent retention. Other Federal courthouse architectural plans were previously approved for permanent retention in the General Services Administration records schedule.

5. Central Intelligence Agency, Pacific Corporation (N1-263-00-1, 39 items, 25 temporary items). Corporate records of the Pacific Corporation, an agency proprietary, and its operating arm, Air America, Inc. Included are such materials as subject files, contracts, personnel rosters, surplus sales records, tax files and other financial records, maps, litigation files, and records relating to security. Records proposed for permanent retention include charters, by-laws, minutes, selected subject files, selected contract files, selected security records, and Board of Review files. An Air America publicity film is also proposed for permanent retention.

6. Environmental Protection Agency, Office of Research and Development (N1-412-01-04, 5 items, 2 temporary items). Electronic copies of documents created using electronic mail and word processing that relate to overflights of sites under study. Recordkeeping copies of aerial photographs, analytical reports, and indexes are proposed for permanent retention.

7. Environmental Protection Agency, Office of Environmental Information (N1-412-03-4, 3 items, 3 temporary items). Records of the Collecting Strategies Division relating to information collection requests and information collection budget reports submitted to the Office of Management and Budget. Also included are electronic copies of records created using electronic mail and word processing.

8. Environmental Protection Agency, Office of Air and Radiation (N1-412-03-5, 3 items, 3 temporary items). Records associated with an electronic database relating to acid rain, including tracking data, utility reporting data, quality assurance information, and data derived from emissions monitoring plans. Included are electronic data files, software, and supporting documentation.

9. Federal Housing Finance Board, Office of Management (N1-485-03-1, 4 items, 4 temporary items). Paper and electronic work papers created by bank examiners during an examination and used in the preparation of reports. Records include memoranda, draft analyses, notes, and spreadsheets. Also included are electronic copies of documents created using electronic mail and word processing. Recordkeeping copies of reports of examination were previously approved for permanent retention.

10. National Archives and Records Administration, Office of Records Services—Washington, DC (N2-286-01-1, 8 items, 8 temporary items). Records of the United States Agency for International Development that were previously accessioned into the National Archives. Records relate to training and education and include such files as training contracts, training authorizations, and records relating to scholarships.

11. National Commission to Ensure Consumer Information and Choice in the Airline Industry (N1-220-03-02, 21 items, 3 temporary items). The Commission's web site and electronic copies of documents created using electronic mail and word processing. Proposed for permanent retention are recordkeeping copies of such records as information and data collected by the Commission, studies, the Commission's final report, transcripts and digests of hearings, and press materials.

12. Office of Government Ethics, Office of the Director (N1-522-03-1, 2 items, 2 temporary items). Records relating to the evaluation of allegations involving Inspectors General brought before the Integrity Committee of the President's Council on Integrity and Efficiency. Also included are word processing copies of these records that are used to produce a recordkeeping copy.

13. Overseas Private Investment Corporation, Office of the Chief Financial Officer (N1-420-03-2, 26 items, 26 temporary items). Records relating to information technology operations and management. Records relate to such matters as equipment support services, system backups, security, customer services, and the design and implementation of the agency's information technology infrastructure. Also included are electronic copies of documents created using electronic mail and word processing.

Dated: February 10, 2003.
Michael J. Kurtz,
Assistant Archivist for Record Services—Washington, DC.

[FR Doc. 03-3597 Filed 2-13-03; 8:45 am]

BILLING CODE 7515-01-P